FEDERAL COMMUNICATIONS COMMISSION

[GN Docket No. 14-28; DA 14-1385]

Panelist Information for Open Internet Roundtables

AGENCY: Federal Communications Commission.

ACTION: Notice.

SUMMARY: In this document, the Commission released a public notice announcing panelist names and other information for a series of roundtables. The intended effect of this document is to make the public aware of the event and the agenda for the roundtables.

DATES: Thursday, October 2, 2014, 1:30 p.m.-5:00 p.m.

ADDRESSES: Federal Communications Commission, Commission Meeting Room (TW-C305), 445 12th Street SW., Washington, DC 20554.

FOR FURTHER INFORMATION CONTACT: Tim Brennan, Office of Strategic Planning and Policy Analysis at (202) 418-2031 or by email at Tim.Brennan@fcc.gov.

SUPPLEMENTARY INFORMATION: This is a summary of the Commission's document in GN Docket No. 14-28; DA 14-1385 released September 24, 2014. The complete text in this document is available for public inspection and copying during normal business hours in the FCC Reference Information Center, Portals II, 445 12th Street SW., Room CY-A257, Washington, DC 20554. The document may also be purchased from the Commission's duplicating contractor, Best Copy and Printing, Inc., 445 12th Street SW., Room CY-B402, Washington, DC 20554, telephone (800) 378-3160 or (202) 863-2893, facsimile (202) 863-2898, or via the Internet at http://www.bcpiweb.com. It is available on the Commission's Web site at http://www.fcc.gov.

The roundtables will be free and open to the public, and the FCC also will stream them live at http://www.fcc.gov/live. The location of the roundtables will be the Commission Meeting Room (TW-C305), 445 12th Street SW., Washington, DC 20554. The FCC will make available an overflow room for those in-person attendees who cannot be accommodated in the Commission Meeting Room. We advise persons planning to attend the roundtables in person to leave sufficient time to enter through building security.

The FCC encourages members of the public to submit suggested questions in advance and during the roundtables by email to roundtables@fcc.gov or on Twitter using the hashtag #FCCRoundtables. Please note that by submitting a question, you will be making a filing in an official FCC proceeding. All information submitted, including names, addresses, and other personal information contained in the message, may be publicly available online.

Reasonable accommodations for people with disabilities are available upon request. The request should include a detailed description of the accommodation needed and contact information. We ask that requests for accommodations be made as soon as possible in order to allow the agency to satisfy such requests whenever possible. Send an email to fcc504@fcc.gov or call the Consumer and Governmental Affairs Bureau at 202-418-0530 (voice), 202-418-0432 (TTY).

Proposed Agenda

The Office of Strategic Planning & Policy Analysis of the Federal Communications Commission (FCC) provides panelist names and other information about an event in the Open Internet roundtable series: “Economics of Broadband: Market Successes and Market Failures,” which will take place on October 2, 2014. This roundtable was previously announced in a Notice. At that time, it was unclear whether the roundtable would be a “meeting” of the Commission. As such, that Notice was not published in the Federal Register. This Notice shall serve as notice that a quorum of Commissioners may be present at the roundtable, in compliance with part 0, Subpart F of the Commission's rules. This Notice does not, however, change the “permit-but-disclose” status of the Open Internet proceeding under the Commission's ex parte rules.

Economics of Broadband: Market Successes and Market Failures

1:30-1:45 p.m. Welcome and Opening Remarks

1:45-5:00 p.m. Economics of Broadband: Market Successes and Market Failures

This roundtable will first consider incentives to provide high quality open internet access service and the relevance of market power. It will then turn to policies to address market power, consumer protection, and shared benefits of the Internet.

Panelists:

Jonathan Baker, Professor, Washington College of Law, American University

Nicholas Economides, Professor of Economics and Executive Director of the NET Institute, Stern School of Business, New York University

Thomas Hazlett, Hugh H. Macaulay Endowed Professor, Department of Economics, Clemson University

Christiaan Hogendorn, Associate Professor, Department of Economics, Wesleyan University

John Mayo, Professor of Economics, Business and Public Policy, McDonough School of Business, Georgetown University

Hal Singer, Principal, Economists Inc.; Senior Fellow, Progressive Policy Institute

Moderators:

Tim Brennan, Chief Economist, FCC

Jonathan Levy, Deputy Chief Economist, FCC

Federal Communications Commission.
Tim Brennan,
Chief Economist, Office of Strategic Planning and Policy Analysis.

[FR Doc. 2014-23564 Filed 10-1-14; 8:45 am]

BILLING CODE 6712-01-P